DEPARTMENT OF HOMELAND SECURITY

Federal Emergency Management Agency

[Docket ID: FEMA-2010-0012]

Agency Information Collection Activities: Submission for OMB Review; Comment Request, OMB No. 1660-0022; Community Rating System (CRS) Program—Application Worksheets and Commentary

AGENCY: Federal Emergency Management Agency, DHS.

ACTION: Notice; 30-day notice and request for comments; revision of a currently approved information collection; OMB No. 1660-0022; FEMA Form FEMA Form 086-0-23, Community Rating System Application Form and Manual; 086-0-23A, Community Rating System Annual Recertification.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before August 26, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Community Rating System (CRS) Program—Application Worksheets and Commentary.

Type of information collection: Revision of a currently approved information collection.

OMB Number: 1660-0022.

Form Titles and Numbers: FEMA Form FEMA Form 086-0-23, Community Rating System Application Form and Manual; 086-0-23A, Community Rating System Annual Recertification.

Abstract: The CRS Application Worksheet and Commentary are used by communities that participate in the National Flood Insurance Program's (NFIP) Community Rating System (CRS) to document the activities that communities have undertaken to mitigate against future flood losses. The CRS application and activity worksheets provide a step-by-step process for communities to follow in their effort to achieve the maximum amount of discount on flood insurance premiums. CRS is a voluntary program where flood insurance costs are reduced in communities that implement practices, such as building codes and public education activities, which are considered to reduce risks of flooding and promote purchase of flood insurance.

Affected Public: State, local, or Tribal Government.

Estimated Number of Respondents: 1,100.

Frequency of Response: Annually.

Estimated Average Hour Burden per Respondent: 7.6818 Hours.

Estimated Total Annual Burden Hours: 8,450 Hours.

Estimated Cost: There are no estimated operational, maintenance, capital or start-up costs associated with this collection.

Dated: July 16, 2010.
Tammi Hines,
Acting Director, Records Management Division, Mission Support Bureau, Federal Emergency Management Agency, Department of Homeland Security.

[FR Doc. 2010-18335 Filed 7-26-10; 8:45 am]

BILLING CODE 9110-11-P